DEPARTMENT OF TRANSPORTATION

Federal Aviation Administration

14 CFR Part 39

[Docket No. FAA-2014-0180; Directorate Identifier 2014-CE-004-AD]

RIN 2120-AA64

Airworthiness Directives; Przedsiebiorstwo Doswiadczalno-Produkcyjne Szybownictwa “PZL-Bielsko” Model SZD-50-3 “Puchacz” Sailplanes

AGENCY: Federal Aviation Administration (FAA), Department of Transportation (DOT).

ACTION: Notice of proposed rulemaking (NPRM).

SUMMARY: We propose to adopt a new airworthiness directive (AD) for Przedsiebiorstwo Doswiadczalno-Produkcyjne Szybownictwa “PZL-Bielsko” Model SZD-50-3 “Puchacz” sailplanes that would supersede AD 2004-11-10. This proposed AD results from mandatory continuing airworthiness information (MCAI) originated by an aviation authority of another country to identify and correct an unsafe condition on an aviation product. The MCAI describes the unsafe condition as fatigue damage of the welded joint between the airbrake torque tube and the airbrake control system lever located inside the fuselage. We are issuing this proposed AD to require actions to address the unsafe condition on these products.

DATES: We must receive comments on this proposed AD by May 9, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Allstar PZL Glider, Sp. z o. o., ul. Cieszynska 325, 43-300 Bielsko-Biala, Poland; telephone: +48 33 812 50 26; fax: +48 33 812 3739; email: techsupport@szd.com.pl; Internet: http://szd.com.pl/en/products/szd-50-3-puchacz. You may review copies of the referenced service information at the FAA, Small Airplane Directorate, 901 Locust, Kansas City, Missouri 64106. For information on the availability of this material at the FAA, call (816) 329-4148.

Examining the AD Docket

You may examine the AD docket on the Internet at http://www.regulations.gov by searching for and locating Docket No. FAA-2014-0180; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Jim Rutherford, Aerospace Engineer, FAA, Small Airplane Directorate, 901 Locust, Room 301, Kansas City, Missouri 64106; telephone: (816) 329-4165; fax: (816) 329-4090; email: jim.rutherford@faa.gov.

SUPPLEMENTARY INFORMATION:

Comments Invited

We invite you to send any written relevant data, views, or arguments about this proposed AD. Send your comments to an address listed under the ADDRESSES section. Include “Docket No. FAA-2014-0180; Directorate Identifier 2014-CE-004-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

On May 27, 2004, we issued AD 2004-11-10, Amendment 39-13656 (69 FR 31872; June 8, 2004). That AD required actions intended to address an unsafe condition on Przedsiebiorstwo Doswiadczalno-Produkcyjne Szybownictwa “PZL-Bielsko” Model SZD-50-3 “Puchacz” sailplanes.

Since we issued AD 2004-11-10 (69 FR 31872; June 8, 2004), service information has been introduced that identifies new inspection and replacement requirements on the airbrake torque tube and the airbrake control system lever.

The European Aviation Safety Agency (EASA), which is the Technical Agent for the Member States of the European Community, has issued EASA AD No.: 2014-0015, dated January 14, 2014 (referred to after this as “the MCAI”), to correct an unsafe condition for the specified products. The MCAI states:

Several occurrences of airbrake torque tube failure were reported on SZD-50-3 “Puchacz” sailplanes. In all cases, as a result of disruption of the welded joint between torque tube and the lever, the broken torque tube detached from the lever located in the fuselage. The result of subsequent investigations identified fatigue damage, as a consequence of periodical striking load exceeding the established maximum value, to be a possible failure cause. Additionally, corrosion damage was identified at internal surface of the opened tube.

This condition, if not detected and corrected, would inhibit the function of the airbrake, possibly resulting in reduced control of the sailplane.

Prompted by these findings, Allstar PZL issued Service Bulletin (SB) No. BE-052/SZD-50-3/2003 to provide inspection instructions. CAO of Poland issued AD SP-0052-2003-A to require a one-time inspection of the airbrake torque tube in the area of welded joint in accordance with that SB.

Since that AD was issued, Allstar PZL issued SB No. BE-062/SZD-50-3/2013 to introduce repetitive inspections and accomplishment instructions for reinforced torque tube inspections.

For the reasons described above, this AD supersedes CAO of Poland AD SP-0052-2003-A and requires repetitive inspections of the airbrake torque tube and, depending on findings, replacement with a serviceable part.

You may examine the MCAI on the Internet at http://www.regulations.gov by searching for and locating Docket No. FAA-2014-0180.

Relevant Service Information

Allstar PZL Glider has issued Allstar PZL Glider Sp. Z o.o. Mandatory Service Bulletin No. BE-062/SZD-50-3/2013 “Puchacz”, dated September 16, 2013. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 5 products of U.S. registry. We also estimate that it would take about 5 hours for the proposed annual inspection of sailplanes equipped with the old version torque tube; 1 hour for the proposed annual inspection of sailplanes equipped with the new version torque tube; and 5 hours for the proposed 1,000-hour annual inspection of sailplanes equipped with the new version torque tube. The average labor rate is $85 per work-hour.

In addition, we estimate that any necessary follow-on actions would take about 5 work-hours and require parts costing $875, for a cost of $1,300 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by removing Amendment 39-13656 (69 FR 31872, June 8, 2004), and adding the following new AD:

Przedsiebiorstwo Doswiadczalno-Produkcyjne Szybownictwa “PZL-Bielsko”: Docket No. FAA-2014-0180; Directorate Identifier 2014-CE-004-AD.

(a) Comments Due Date

We must receive comments by May 9, 2014.

(b) Affected ADs

This AD supersedes AD 2004-11-10, Amendment 39-13656 (69 FR 31872, June 8, 2004).

(c) Applicability

This AD applies to Przedsiebiorstwo Doswiadczalno-Produkcyjne Szybownictwa “PZL-Bielsko” Model SZD-50-3 “Puchacz” sailplanes, all serial numbers, certificated in any category.

(d) Subject

Air Transport Association of America (ATA) Code 27: Flight Controls.

(e) Reason

This AD was prompted by continuing airworthiness information (MCAI) originated by an aviation authority of another country to identify and correct an unsafe condition on an aviation product. The MCAI describes the unsafe condition as fatigue damage of the welded joint between the airbrake torque tube and the airbrake control system lever located inside the fuselage. We are issuing this AD to detect and correct fatigue damage of the airbrake torque tube and the airbrake control system lever which may cause a malfunction of the airbrake, resulting in loss of control of the sailplane.

(f) Actions and Compliance

Unless already done, do the following actions in paragraphs (f)(1) through (f)(6) of this AD:

(1) For sailplanes equipped with the old version torque tube, with or without reinforced corner: Initially within 30 days after the effective date of this AD and repetitively thereafter at intervals not to exceed every 12 months or 100 hours time-in-service (TIS), whichever occurs first, do a detailed inspection of the airbrake torque tube following the inspection procedures in paragraph (2)(b) in Allstar PZL Glider Sp. Z o.o. Service Bulletin No. BE-062/SZD-50-3/2013 “Puchacz”, dated September 16, 2013.

(2) For sailplanes equipped with the new type torque tube, with reinforced corner: Initially within 30 days after the effective date of this AD and repetitively thereafter at intervals not to exceed every 12 months or 100 hours TIS, whichever occurs first, visually inspect the welded joint of the airbrake torque tube following the conditions of inspection, first bulleted item of paragraph (2)(a)(2), in Allstar PZL Glider Sp. Z o.o. Service Bulletin No. BE-062/SZD-50-3/2013 “Puchacz”, dated September 16, 2013.

(3) For sailplanes equipped with the new type torque tube, with reinforced corner: During the first 1,000-hour inspection after the effective date of this AD, and then repetitively at each scheduled 1,000-hour inspection, do a detailed inspection of the welded joint of the airbrake torque tube following the inspection procedures in paragraph (2)(b) in Allstar PZL Glider Sp. Z o.o. Service Bulletin No. BE-062/SZD-50-3/2013 “Puchacz”, dated September 16, 2013.

(4) For all sailplanes: If during any inspection required by paragraph (f)(1), (f)(2), or (f)(3) of this AD any damage is found as detailed in paragraph (2)(c) of PZL Glider Sp. Z o.o. Service Bulletin No. BE-062/SZD-50-3/2013 “Puchacz”, dated September 16, 2013, replace the airbrake torque tube as described in the Post-inspection procedures, paragraph (2)(c), of Allstar PZL Glider Sp. Z o.o. Service Bulletin No. BE-062/SZD-50-3/2013 “Puchacz”, dated September 16, 2013.

(5) For all sailplanes: Replacement of an airbrake torque tube, as required by paragraph (4) of this AD, does not constitute terminating action for inspection requirements of paragraphs (f)(1), (f)(2), and (f)(3) of this AD.

(6) For all sailplanes: Compliance with the requirements of paragraphs (f)(1), (f)(2) or (f)(3) of this AD can be demonstrated by incorporating the applicable required inspections and follow-on corrective actions, as specified in Allstar PZL Glider Sp. Z o.o. Service Bulletin No. BE-062/SZD-50-3/2013 “Puchacz”, dated September 16, 2013 into the approved instructions for continued airworthiness (ICA) of the maintenance program.

(g) Other FAA AD Provisions

The following provisions also apply to this AD:

(1) Alternative Methods of Compliance (AMOCs): The Manager, Standards Office, FAA, has the authority to approve AMOCs for this AD, if requested using the procedures found in 14 CFR 39.19. Send information to ATTN: Jim Rutherford, Aerospace Engineer, FAA, Small Airplane Directorate, 901 Locust, Room 301, Kansas City, Missouri 64106; telephone: (816) 329-4165; fax: (816) 329-4090; email: jim.rutherford@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No.: 2014-0015, dated January 14, 2014, for related information. You may examine the MCAI on the Internet at http://www.regulations.gov by searching for and locating Docket No. FAA-2014-0180. For service information related to this AD, contact Allstar PZL Glider, Sp. z o. o., ul. Cieszynska 325, 43-300 Bielsko-Biala, Poland; telephone: +48 33 812 50 26; fax: +48 33 812 3739; email: techsupport@szd.com.pl; Internet: http://szd.com.pl/en/products/szd-50-3-puchacz. You may review copies of the referenced service information at the FAA, Small Airplane Directorate, 901 Locust, Kansas City, Missouri 64106. For information on the availability of this material at the FAA, call (816) 329-4148.

Issued in Kansas City, Missouri, on March 19, 2014.
James E. Jackson,
Acting Manager, Small Airplane Directorate, Aircraft Certification Service.

[FR Doc. 2014-06497 Filed 3-24-14; 8:45 am]

BILLING CODE 4910-13-P